ENVIRONMENTAL PROTECTION AGENCY

[FRL-7406-3]

Additional Data Available on Wastes Studied in the Report to Congress on Cement Kiln Dust

AGENCY: Environmental Protection Agency.

ACTION: Extension of period for public comment.

SUMMARY: The Environmental Protection Agency (EPA) is today announcing an extension of the public comment period for its July 25, 2002 (67 FR 48648) Notice of Data Availability (NODA) on cement kiln dust to December 9, 2002.

DATES: The comment period for the Additional Data Available on Wastes Studied in the Report to Congress on Cement Kiln Dust is extended and will close on December 9, 2002.

ADDRESSES: You may submit comments electronically, by mail, or through hand delivery/courier. To ensure proper receipt by EPA, identify the appropriate docket identification number in the subject line on the first page of your comment. Please ensure that your comments are submitted within the specified comment period. Comments received after the close of the comment period will be marked “late.” EPA is not required to consider these late comments.

1. Electronically. Your use of EPA's electronic public docket to submit comments to EPA electronically is EPA's preferred method for receiving comments. Go directly to EPA Dockets at http://www.epa.gov/edocket, and follow the online instructions for submitting comments. Once in the system, select “search,” and then key in Docket ID No. RCRA-1999-0011. The system is an “anonymous access” system, which means EPA will not know your identity, e-mail address, or other contact information unless you provide it in the body of your comment.

Comments may be sent by electronic mail (e-mail) to [RCRA-docket@epamail.epa.gov], Attention Docket ID No. RCRA-1999-0011. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

You may submit comments on a disk or CD ROM that you mail to the mailing address identified below. These electronic submissions will be accepted in WordPerfect or ASCII file format. Avoid the use of special characters and any form of encryption.

Commenters should not submit electronically any confidential business information (CBI). An original and two copies of CBI must be submitted under separate cover to: RCRA CBI Document Control Officer, Office of Solid Waste (5305W), U.S. EPA, 1200 Pennsylvania Ave., NW., Washington, DC 20460. Confidential information submitted by hand delivery or courier should be taken to the RCRA CBI Document Control Officer, U.S. EPA Crystal Station, 2800 Crystal Drive (7th floor), Arlington, VA 22202.

2. By Mail Send your comments to: RCRA Docket Information Center (5305T), U.S. Environmental Protection Agency, EPA West, 1200 Pennsylvania Ave., NW., Room B-102, Washington, DC, 20460, Attention Docket ID No. RCRA-1999-0011.

3. By Hand Delivery or Courier. Deliver your comments to: RCRA Docket Information Center (5305T), U.S. Environmental Protection Agency, 1301 Constitution Ave., NW., Room B-102, Washington, DC, 20460. Attention Docket ID No. RCRA-1999-0011. Such deliveries are only accepted during the Center's normal hours of operation as identified below.

Public comments and supporting materials are available for viewing in the RCRA Docket Information Center (RIC), located at 1301 Constitution Ave., NW., Room B-102, Washington, DC 20460. The RIC is open from 8:30 a.m. to 4:30 p.m., Monday through Friday, excluding federal holidays. To review docket materials, it is recommended that the public make an appointment by calling (202) 566-0270. The public may copy a maximum of 100 pages from any regulatory docket at no charge. Additional copies cost $0.15 per page. The public comments and supporting materials are also available electronically. See the ADDRESSES: Electronically section above for information on electronic access.

FOR FURTHER INFORMATION CONTACT: For general information, contact the RCRA Hotline at (800) 424-9346 or (703) 412-9810. For more detailed information on specific aspects of today's action, contact Anthony Carrell, U.S. Environmental Protection Agency (5306W), 1200 Pennsylvania Ave, NW., Washington, DC 20460, at (703) 308-0458, or e-mail: carrell.anthony@epa.gov.

SUPPLEMENTARY INFORMATION:

Customer Service

In developing the Final Rule, we are trying to address the concerns of all our stakeholders. Your comments will help us improve this regulatory action. We invite you to provide different views on the new data received. Your comments will be most effective if you follow the suggestions below:

• Explain your views as clearly as possible and why you feel that way.

• Provide solid technical and cost data to support your views.

• If you estimate potential costs, explain how you arrived at the estimate.

• Tell us which parts you support, as well as those you disagree with.

• Provide specific examples to illustrate your concerns.

• Offer specific alternatives.

• Refer your comments to specific sections of the report.

• Make sure to submit your comments by the deadline in this notice.

• Be sure to include the name, date, and docket number with your comments.

Copies of the NODA, titled Additional Data Available on Wastes Studied in the Report to Congress on Cement Kiln Dust, are available for inspection and copying at the EPA Headquarters library, at the RCRA Docket (RIC) office identified in ADDRESSES above, at all EPA Regional Office libraries, and in electronic format at the following EPA Web site: http://www.epa.gov/epaoswer/other/ckd/index.htm. Printed copies of the proposal and related documents, can also be obtained by calling the RCRA/Superfund Hotline at (800) 424-9346 or (703) 412-9810.

Background

The Agency issued a proposed rule titled Standards for the Management of Cement Kiln Dust on August 20, 1999 (64 FR 45631). In the proposed rule, EPA established a 90-day public comment period, which was extended to February 17, 2000. The Agency received a total of 52 comments. On May 11, 2001 the American Portland Cement Alliance (APCA) submitted a rulemaking petition to EPA pursuant to 7004(a) of the RCRA. EPA met with APCA on July 6, 2001 to discuss the petition. APCA provided groundwater monitoring data for 18 CKD disposal facilities from a collection of information on 35 plants that together acccounted for approximately 95 percent of the CKD landfilled in the United States in 2000. In a Notice of Data Availability, published July 25, 2002 (67 FR 48648), the Agency established a 60-day period to inspect and make public comment on the data. Subsequently, the Agency received a request from a stakeholder to extend the comment period another 30 days. EPA supports the request for an extension, and the comment period will be extended from September 23, 2002 to December 9, 2002.

Dated: October 31, 2002.
Robert Springer,
Director, Office of Solid Waste.

[FR Doc. 02-28503 Filed 11-7-02; 8:45 am]

BILLING CODE 6560-50-P